DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: 2007 Company Organization Survey.

Form Number(s): NC-99001.

Agency Approval Number: 0607-0444.

Type of Request: Revision of a currently approved collection.

Burden: 26,583 hours.

Number of Respondents: 80,000.

Avg. Hours per Response: 20 minutes.

Needs and Uses: The Census Bureau requests a revision of the currently approved Company Organization Survey (COS) data collection for the 2007 survey year. The Census Bureau will conduct the 2007 COS in conjunction with the 2007 Economic Census and will coordinate these collections so as to minimize response burden. We request an extension of the current expiration date to November 2008 to complete the data collection for the 2007 COS.

The Census Bureau conducts the annual COS in order to maintain and update a centralized, multipurpose Business Register (BR). In particular, the COS supplies critical information on the organizational structure, operating characteristics, and employment and payroll of multi-location enterprises.

The 2007 COS will request company-level information from 80,000 multi-establishment enterprises with 50 or more employees or with industries out-of-scope of the 2007 Economic Census. The Census Bureau will include questions on ownership or control by a domestic parent, ownership or control by a foreign parent, ownership of foreign affiliates, research and development, and employees from a professional employer organization.

The 2007 COS will request additional information from 15,000 multi-location establishments with industry classifications that are out-of-scope of the Economic Census. For those out-of-scope establishments, we will collect the following basic operating data for each listed establishment: End-of-year operating status, mid-March employment, first quarter payroll, and annual payroll. The Economic Census will collect data for all other establishments of multi-establishment enterprises, including those items above.

The information collected by the COS is used to maintain and update the BR. The BR serves two fundamental purposes:

First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, measures of size and economic activity, ownership characteristics, and contact information (for example, name and address).

Second, it provides establishment data that serve as the basis for the annual County Business Patterns (CBP) statistical series. The CBP reports present data on number of establishments, first quarter payroll, annual payroll, and mid-March employment summarized by industry and employment size class for the United States, the District of Columbia, Puerto Rico, counties, and county-equivalents. No other annual or more frequent series of industry statistics provides comparable detail, particularly for small geographic areas.

Affected Public: Business or other for-profit; Not-for-profit institutions; Farms; State, local or Tribal government.

Frequency: Annually.

Respondent's Obligation: Mandatory.

Legal Authority: Title 13 U.S.C., Sections 131, 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 24, 2006.
Madeleine Clayton,
Management Analyst, Office of the Chief Information Officer.

[FR Doc. E6-14357 Filed 8-29-06; 8:45 am]

BILLING CODE 3510-07-P